DEPARTMENT OF LABOR

Employee Benefits Security Administration

[Exemption Application No. D-12002]

Withdrawal of Notice of Proposed Exemption Involving the Retirement System of the American National Red Cross Located in Washington, DC

AGENCY: Employee Benefits Security Administration, Labor.

ACTION: Notice of withdrawal of proposed exemption.

SUMMARY: This document provides withdrawal of a notice of pendency before the Department of Labor (the Department) of a proposed individual exemption from certain of the prohibited transaction restrictions of the Employee Retirement Income Security Act of 1974 (ERISA) and/or the Internal Revenue Code of 1986 (the Code).

FOR FURTHER INFORMATION CONTACT: Anna Vaughan of the Department at (202) 693-8565. (This is not a toll-free number.)

Withdrawal of Proposed Exemption

In the Federal Register dated November 18, 2021 (86 FR 64688), the Department of Labor (the Department) published a notice of proposed exemption (the Notice) from ERISA and the Code.

The Notice proposed the following transactions: (a) The in-kind contribution (the Contribution) by the American National Red Cross (the Red Cross) of nine condominium units located at 2025 E Street NW, Washington DC to the Retirement System of The American National Red Cross (the Plan); and (b) the assignment of certain rights and obligations from the Red Cross to the Plan in connection with the Contribution.

Subsequent to the publication of the Notice in the Federal Register, the Red Cross informed the Department that the Red Cross had decided not to pursue the requested exemption, due to changed circumstances.

Therefore, under the authority of ERISA Section 408(a) and Code Section 4975(c)(2) the Department is hereby withdrawing the Notice from the Federal Register.

Signed at Washington, DC.
George Christopher Cosby,
Acting Director, Office of Exemption Determinations, Employee Benefits Security Administration, U.S. Department of Labor.

[FR Doc. 2022-01236 Filed 1-21-22; 8:45 am]

BILLING CODE 4510-29-P